DEPARTMENT OF DEFENSE

Department of the Army

Performance Review Boards Membership

AGENCY: Department of the Army, DoD.

ACTION: Notice.

SUMMARY: Notice is given of the names of members of the Performance Review Boards for the Department of the Army.

EFFECTIVE DATE: August 9, 2000.

FOR FURTHER INFORMATION CONTACT: Nancy Quick, U.S. Army Senior Executive Service Office, Assistant Secretary of the Army (Manpower and Reserve Affairs), 111 Army Pentagon, Washington, DC 20310-0111.

SUPPLEMENTARY INFORMATION: Section 4314 (c)(1) through (5) of Title 5 U.S.C., requires each agency to establish, in accordance with regulations, one or more Senior Executive Service performance review boards. The boards shall review and evaluate the initial appraisal of senior executives' performance by supervisors and make recommendations to the appointing authority or rating official relative to the performance of the executives.

The members of the Performance Review Board for the U.S. Army Consolidated Commands are:

1. Mr. Joseph H. Plunkett, Assistant Deputy Chief of Staff for Personnel and Installation Management, U.S. Army Forces Command;

2. Mr. James S. Koons, Assistant Deputy Chief of Staff for Logistics and Readiness, U.S. Army Forces Command;

3. Mr. William S. Rich, Jr., Deputy/Technical Director, National Ground Intelligence Center, U.S. Army Intelligence and Security Command;

4. Mr. Richard A. McSeveney, Deputy to the Commander for Installation Support, U.S. Army Military District of Washington;

5. Mr. John C. Metzler, Jr., Superintendent, Arlington National Cemetery;

6. Mr. William R. Lucas, Deputy to the Commander, Military Traffic Management Command;

7. Mr. William J. Cooper, Director of Transportation Engineering Agency, Military Traffic Management Command;

8. Mr. Mark J. Lumer, Principal Assistant Responsible for Contracting, U.S. Army Space and Missile Defense Command;

9. Mr. Laurence H. Burger, Director of Space and Missile Defense Battle Lab, U.S. Army Space and Missile Defense Command;

10. Dr. Charles N. Davidson, Director of U.S. Army Nuclear and Chemical Agency, U.S. Army Training and Doctrine Command;

11. Mr. William M. Robinson, Assistant Deputy Chief of Staff for Engineering (International Affairs), U.S. Army Europe;

12. Ms. Toni B. Wainwright, Assistant Deputy Chief of Staff for Personnel (Civilian Personnel), U.S. Army Europe; and

13. MG Warren L. Freeman, Director of the District of Columbia National Guard.

The members of the Performance Review Board for the Army Acquisition Executive are:

Army Acquisition Executive Potential Board Members

1. Mr. David Borland, Vice Director to the Director of Information Systems for Command, Control, Communications and Computers;

2. Dr. Walter F. Morrison, Jr., Director for Research, Office of Assistant Secretary of the Army (Acquisition, Logistics & Technology);

3. Mr. Edward T. Bair, Program Executive Officer for Intelligence, Electronic Warfare & Sensors; and

4. Mr. T. Kevin Carroll, Program Executive Officer for Standard Army Management Information System.

The members of the Performance Review Board for the Chief of Staff are:

1. Dr. James J. Streilein, Director of the Army Evaluation Center, U.S. Army Test and Evaluation Command;

2. Dr. C. David Brown, Director for Technical Mission, U.S. Army Test and Evaluation Command;

3. Dr. Jeffrey J. Clarke, Chief Historian, U.S. Army Center of Military History;

4. Mr. Robert N. Kittel, Special Assistant for Communications and Transportation, U.S. Army Legal Services Agency;

5. Ms. Janet C. Menig, Deputy Assistant Chief of Staff for Installation Management, Office of the Assistant Chief of Staff for Installation Management;

6. Mr. Daniel J. Shedlowski, Technical Director, U.S. Army Center for Army Analysis;

7. Mr. Edgar B. Vandiver III, Director of U.S. Army Center for Army Analysis;

8. Ms. Maureen T. Lischke, Chief Information Officer and Program Executive Officer for Information Systems, National Guard Bureau;

9. Mr. Christopher Gardner, Assistant Chief, National Guard Bureau;

10. MG Warren L. Freeman, Commanding General, District of Columbia National Guard;

11. MG Irene Trowell-Harris, Assistant, Headquarters, U.S. Air Force;

12. MG Robert A. Harding, Assistant Deputy Chief of Staff for Intelligence;

13. Ms. Jean Bennett, Director of Intelligence Programs, Plans & Studies, Office of the Deputy Chief of Staff for Intelligence;

14. Mr. Thomas Dillon, Director of Foreign Disclosure, Office of the Deputy Chief of Staff for Intelligence;

15. BG H.A. Curry, Director of Plans, Operations and Logistics Automation, Office of the Deputy Chief of Staff for Logistics;

16. BG Barbara Doornik, Special Assistant to the Deputy Chief of Staff for Logistics for Transportation for Quadrennial Defense Review, Office of the Deputy Chief of Staff for Logistics;

17. Ms. Donna L. Shands, Assistant Director of Supply and Maintenance, Office of the Deputy Chief of Staff for Logistics;

18. Mr. Joe R. Billman, Director of Logistics Program Analysis, Office of the Deputy Chief of Staff for Logistics;

19. MG Phillip R. Kensinger, Jr., Assistant Deputy Chief of Staff of Operations and Plans, Office of the Deputy Chief of Staff for Operations and Plans;

20. BG William G. Webster, Jr., Director of Training, Office of the Deputy Chief of Staff for Operations and Plans;

21. Mr. Vernon M. Bettencourt, Jr., Technical Advisor to the Deputy Chief of Staff for Operations and Plans, Office of the Deputy Chief of Staff for Operations and Plans;

22. Mr. Wendell H. Lunceford, Jr., Director of the Army Model and Simulation Office, Office of the Deputy Chief of Staff for Operations and Plans;

23. BG William Heilman, Director of Human Resources, Office of the Deputy Chief of Staff for Personnel;

24. MG Geoffrey Miller, Assistant Deputy Chief of Staff for Personnel, Office of the Deputy Chief of Staff for Personnel;

25. Dr. Zita Simutis, Technical Director, U.S. Army Research Institute; and

26. Dr. Edgar Johnson, Director of the U.S. Army Research Institute.

John A. Hall,
Alternate Army Federal Register Liaison Officer.

[FR Doc. 00-22243 Filed 8-30-00; 8:45 am]

BILLING CODE 3710-08-M